ENVIRONMENTAL PROTECTION AGENCY

40 CFR Part 52

[EPA-R01-OAR-2006-0704; A-1-FRL-8492-1]

Approval and Promulgation of Air Quality Implementation Plans; Maine; Emission Statements Reporting and Definitions

AGENCY: Environmental Protection Agency (EPA).

ACTION: Direct final rule.

SUMMARY: EPA is approving State Implementation Plan (SIP) revisions submitted by the State of Maine. These revisions update Maine's criteria pollutant emissions reporting program and list of terms and associated definitions used in Maine's air pollution control regulations. The intended effect of this action is to approve these revisions into the Maine SIP. This action is being taken under the Clean Air Act.

DATES: This direct final rule will be effective January 22, 2008, unless EPA receives adverse comments by December 21, 2007. If adverse comments are received, EPA will publish a timely withdrawal of the direct final rule in the Federal Register informing the public that the rule will not take effect.

ADDRESSES: Submit your comments, identified by Docket ID Number EPA-R01-OAR-2006-0704 by one of the following methods:

1. http://www.regulations.gov: Follow the on-line instructions for submitting comments.

2. E-mail: arnold.anne@epa.gov; Fax: (617) 918-0047; Mail: “Docket Identification Number EPA-R01-OAR-2006-0704”, Anne Arnold, U.S. Environmental Protection Agency, EPA New England Regional Office, One Congress Street, Suite 1100 (mail code CAQ), Boston, MA 02114-2023.

3. Hand Delivery or Courier: Deliver your comments to: Anne Arnold, Manager, Air Quality Planning Unit, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding legal holidays.

Instructions: Direct your comments to Docket ID No. EPA-R01-OAR-2006-0704. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

In addition, copies of the state submittal and EPA's technical support document are also available for public inspection during normal business hours, by appointment at the State Air Agency, the Bureau of Air Quality Control, Department of Environmental Protection, First Floor of the Tyson Building, Augusta Mental Health Institute Complex, Augusta, ME 04333-0017.

FOR FURTHER INFORMATION CONTACT: Bob McConnell, Air Quality Planning Unit, EPA New England Regional Office, One Congress Street, Suite 1100-CAQ, Boston, MA 02114-2023, telephone number 617-918-1046, fax number 617-918-0046, e-mail mcconnell.robert@epa.gov.

SUPPLEMENTARY INFORMATION: Organization of this document. The following outline is provided to aid in locating information in this preamble.

I. Background and Purpose

II. Chapter 137, Emission Statements

A. Background and Purpose

B. Evaluation of Maine's Submittal

1. 40 CFR 51.15(a); Pollutants

2. 40 CFR 51.20(b); Emission Thresholds

3. 40 CFR 51.25; Geographic Coverage

4. 40 CFR 51.30(a); Reporting Due Date

5. Appendix A to Subpart A of 40 CFR Part 51; Table 2a

C. Results of EPA's Analysis of State's Submittal

III. Chapter 100, Definitions

IV. Summary of SIP Revisions

V. Final Action

VI. Statutory and Executive Order Reviews

I. Background and Purpose

On July 14, 2004, and February 8, 2006, the State of Maine submitted formal revisions to its State Implementation Plan (SIP). These SIP submittals consist of revisions to Maine's Chapter 137 Emission Statements rule, and Chapter 100 list of definitions for terms used in Maine's air pollution control regulations. EPA approved previous versions of each of these rules, and is approving the revised rules in today's action.

II. Chapter 137, Emission Statements

A. Background. Sections 182(a)(3)(B) and 184(b)(2) of the Clean Air Act (the Act) requires that states develop and submit, as SIP revisions, rules which establish annual reporting requirements for precursors of ozone from stationary sources. To meet this requirement, on January 3, 1994, Maine submitted its Chapter 137 Emission Statements rule to EPA and requested EPA incorporate the rule into the state's SIP. EPA did so by publishing, on January 10, 1995, a final rule approving Maine's Chapter 137 emission statements reporting rule into the state's SIP (see 60 FR 2524). Subsequently, on June 10, 2002, EPA published the Consolidated Emissions Reporting Rule (CERR) as a final rule in the Federal Register (67 FR 39602). This rule requires additional reporting obligations for states, chief among them a requirement that states collect air emissions data from stationary point sources for emissions of fine particulate matter (particulate matter with a diameter less than or equal to 2.5 micrometers, sometimes noted as PM2.5) and ammonia (NH3), which is a precursor to PM2.5 formation, and report this information to EPA. On July 14, 2004, Maine submitted a revised version of its Chapter 137 Emission Statements rule to EPA. Maine had revised the rule in accordance with the provisions of EPA's CERR, and requested that EPA incorporate the revised rule into the state's SIP.

B. Evaluation of Maine's Submittal. The CERR requires that states collect a variety of information pertaining to air emissions from industrial sources in the state, and report this information to EPA. The discussion below describes how Maine's modified Chapter 137 Emission Statements rule conforms with the requirements of EPA's CERR stated in 40 CFR Part 51.

1. 40 CFR 51.15(a); Pollutants. 40 CFR 51.15(a)(1) requires that states report emissions of sulfur oxides, volatile organic compounds (VOC), nitrogen oxides, carbon monoxide, lead and lead compounds, primary PM2.5, primary PM10, and ammonia. Maine's revised Chapter 137 emission statements regulation requires collection of emissions data for all of these pollutants from industrial sources in the state.

2. 40 CFR 51.20(b); Emission thresholds. 40 CFR 51.20(b) requires that states collect emissions data from all stationary sources that emit at levels above those shown in Table 1 of Appendix A to subpart 51. Maine's revised Chapter 137 rule contains emission reporting thresholds that are more stringent than required by Table 1 of Appendix A, and as such the rule complies with EPA's 40 CFR 51.20(b) reporting requirement.

3. 40 CFR 51.25; Geographic coverage. 40 CFR 51.25 requires collection of point source data from all sources in the state that emit pollutants above the level specified in 40 CFR 51.20(b). Maine's revised Chapter 137 rule requires statewide reporting, and as such complies with this requirement.

4. 40 CFR 51.30(a); Reporting due date. 40 CFR 51.30(a) requires that states report their point source data to EPA no later than 17 months after the end of the calendar year in which the emissions occurred. Maine's revised Chapter 137 rule requires that sources report their emissions to the state within 6 months of the end of the year in which the emissions occurred, so the state will have sufficient time to collect, review, and quality assure the data prior to submitting it to EPA.

5. Appendix A to Subpart A of 40 CFR Part 51; Table 2a. Table 2a lists the data elements that states must report to EPA. The provisions of Maine's revised Chapter 137 Emission Statements rule will enable the state to submit all of the required point source data elements listed in Table 2a of Appendix A.

C. Results of EPA's analysis of Maine's submittal. EPA's review has found that Maine's revised Chapter 137 Emission Statements rule meets all of the requirements of EPA's CERR, and therefore EPA is approving the revised rule into the state's SIP.

EPA takes approval action on SIP revisions based on the authority of section 110(a) of the Act. Pursuant to section 110 (a)(1) of the Act, states are required to revise their SIP when EPA promulgates or revises a national ambient air quality standard (NAAQS). Maine's Chapter 137 Emission Statements regulation contains, in addition to criteria pollutant reporting provisions, requirements that will enable the state to collect data on certain hazardous air pollutants (HAPs) and greenhouse gas emissions. The HAP and greenhouse gas requirements are needed for Maine to implement programs at the state level, but are not required for federal reporting purposes under the CERR. Therefore, Maine did not include the Chapter 137 HAP and greenhouse gas requirements in its SIP revision request to EPA and these provisions are not being approved into the state's SIP.

The specific requirements of Maine's Chapter 137 regulation and EPA's evaluation of these requirements are detailed in a memorandum dated August 7, 2006, entitled “Technical Support Document (TSD) for revisions to the Maine SIP of Chapter 100, Definitions Regulation, and Chapter 137, Emission Statements.” The TSD and Maine's Chapter 137 Emission Statements rule are available in the docket supporting this action.

III. Chapter 100, Definitions

Maine's Chapter 100 definitions regulation provides definitions for the terms used in the state's air pollution control regulations and emission standards. EPA previously approved Maine's Chapter 100 definitions in a final rule published in the Federal Register on October 15, 1996 (61 FR 53639). Since that time, Maine has amended its Chapter 100 list of definitions on numerous occasions in conjunction with SIP submittals it has made over time for various programs such as the Title V permitting, best available control technology, and prevention of significant deterioration programs. EPA has reviewed the list of terms and found them to conform to the applicable EPA guidance, and so we are approving Maine's revised Chapter 100 list of definitions into the state's SIP. The specific requirements of Maine's Chapter 100 Definitions regulation and EPA's evaluation of these requirements are detailed in the TSD which is available in the docket supporting this action.

IV. Summary of SIP Revisions

For the reasons outlined above, EPA is approving Maine's revised Chapter 100 Definitions, and revised Chapter 137 Emission Statements regulations and incorporating these regulations into the state's SIP. Maine's Chapter 100 definitions regulation provides definitions for the terms used in the state's air pollution control regulations, many of which are federally enforceable. The state's Chapter 137 Emission Statements regulation has been amended to conform with the EPA's Consolidated Emission Statements Rule.

V. Final Action

EPA is approving Maine's revised Chapter 100 list of definitions and revised Chapter 137 Emission Statements rule into the state's SIP.

The EPA is publishing this action without prior proposal because the Agency views this as a noncontroversial amendment and anticipates no adverse comments. However, in the proposed rules section of this Federal Register publication, EPA is publishing a separate document that will serve as the proposal to approve the SIP revision should relevant adverse comments be filed. This rule will be effective January 22, 2008 without further notice unless the Agency receives relevant adverse comments by December 21, 2007.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on January 22, 2008 and no further action will be taken on the proposed rule. Please note that if EPA receives adverse comment on an amendment, paragraph, or section of this rule and if that provision may be severed from the remainder of the rule, EPA may adopt as final those provisions of the rule that are not the subject of an adverse comment.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 22, 2008. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Lead, Nitrogen dioxide, Ozone, Particulate matter, Reporting and recordkeeping requirements, Sulfur oxides, Volatile organic compounds.

Dated: October 25, 2007.
Robert W. Varney,
Regional Administrator, EPA New England.

Part 52 of chapter I, title 40 of the Code of Federal Regulations is amended as follows:

PART 52—[AMENDED]

1. The authority citation for part 52 continues to read as follows:

Authority: 42 U.S.C. 7401 et seq.

Subpart U—Maine

2. Section 52.1020 is amended by removing paragraph (c)(34)(i)(C) and by adding paragraph (c)(62) as follows:

§ 52.1020 Identification of plan.

* * * * *

(c) * * *

(62) Revisions to the State Implementation Plan submitted by the Maine Department of Environmental Protection on July 14, 2004, and February 8, 2006.

(i) Incorporation by reference.

(A) Chapter 100 of the Maine Department of Environmental Protection Regulations, “Definitions,” effective in the State of Maine December 24, 2005.

(B) Chapter 137 of the Maine Department of Environmental Protection Regulations, “Emission Statements,” effective in the State of Maine on July 6, 2004, with the exception of the following sections which the state did not include in its SIP revision request: section 137.1.C; section 137.1.E; section 137.1.F; section 137.2.A through F; section 137.2.H; section 137.3.B; section 137.3.C; section 137.4.D(4), from the sentence beginning with “Greenhouse gases” to the end of this section; the note within section 137.D(5); section 137(E), and; Appendix A.

(ii) Additional materials.

(A) Nonregulatory portions of these submittals.

(B) Correspondence from David W. Wright of the Maine DEP dated June 6, 2006, indicating which portions of Chapter 137 should not be incorporated into the State's SIP.

3. In § 52.1031, Table 52.1031 is amended by adding a new entry to the existing state citation for Chapter 100, and by revising the entry for Chapter 137 to read as follows:

§ 52.1031 EPA-approved Maine regulations.

* * * * *

Table 52.1031.—EPA-Approved Rules and Regulations
State citation | Title/subject | Date adopted by State | Date approved by EPA | Federal Register citation | 52.1020 |
| * * * * * * *
100 | Definitions | 12/1/2005 | 11/21/07 | [Insert Federal Register page number where the document begins] | (c)(62) | Revised to add definitions associated with SIP submittals made between 7/19/95 and 12/1/05.
| * * * * * * *
137 | Emission Statements | 12/17/04 | 11/21/07 | [Insert Federal Register page number where the document begins] | (c)(62) | Revised to incorporate changes required by EPA's consolidated emissions reporting rule. The entire rule is approved with the exception of HAP and greenhouse gas reporting requirements which were not included in the state's SIP revision request.
| * * * * * * *
Note 1. The regulations are effective statewide unless stated otherwise in comments or title section.

[FR Doc. E7-22596 Filed 11-20-07; 8:45 am]

BILLING CODE 6560-50-P